DEPARTMENT OF THE INTERIOR

National Park Service

[NPS-WASO-NAGPRA-20603: PPWOCRADN0-PCU00RP14.R50000]

Notice of Intent To Repatriate Cultural Items: Illinois Historic Preservation Agency, Springfield, IL

AGENCY: National Park Service, Interior.

ACTION: Notice.

SUMMARY: The Illinois Historic Preservation Agency, in consultation with the appropriate Indian tribes or Native Hawaiian organizations, has determined that the cultural items listed in this notice meet the definition of objects of cultural patrimony. Lineal descendants or representatives of any Indian tribe or Native Hawaiian organization not identified in this notice that wish to claim these cultural items should submit a written request to the Illinois Historic Preservation Agency. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Illinois Historic Preservation Agency at the address in this notice by May 5, 2016.

ADDRESSES: Ryan Prehn, Illinois Historic Preservation Agency, 313 South Sixth Street, Springfield, IL 62701, telephone (217) 558-8950, email Ryan.Prehn@Illinois.gov.

SUPPLEMENTARY INFORMATION: Notice is here given in accordance with the Native American Graves Protection and Repatriation Act (NAGPRA), 25 U.S.C. 3005, of the intent to repatriate cultural items under the control of the Illinois Historic Preservation Agency, Springfield, IL, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In or around 1918, one cultural item were removed from Tama, in Tama County, IA. The item was given to Mr. John Hauberg by a member of the Meskwaki tribe. In 1939, this cultural item was donated to the Hauberg Indian Museum in Rock Island, IL, by Mr. John Hauberg. The object has remained in the collection of the museum since, and is now under the control of the Illinois Historic Preservation Agency at the Black Hawk State Historic Site. The one object of cultural patrimony is one Bear Claw Necklace.

Through consultation with Mr. Johnathan L. Buffalo, a representative of the Meskwaki Nation and the Sac & Fox Tribe of the Mississippi in Iowa, it has been shown that the Bear Claw Necklace is an object of cultural patrimony, owing to its use as a symbol of tribal governance within the tribe. Mr. Buffalo has demonstrated that this object holds political, social, and ceremonial significance for the Meskwaki, and has ongoing historical, traditional and cultural importance to the tribe. Therefore, it has been determined that the Bear Claw Necklace falls under the definition of objects of cultural patrimony for the purposes of repatriation under NAGPRA.

Determinations Made by the Illinois Historic Preservation Agency

Officials of the Illinois Historic Preservation Agency have determined that:

• Pursuant to 25 U.S.C. 3001(3)(D), the one cultural items described above have ongoing historical, traditional, or cultural importance central to the Native American group or culture itself, rather than property owned by an individual.

• Pursuant to 25 U.S.C. 3001(2), there is a relationship of shared group identity that can be reasonably traced between the object of cultural patrimony and the Sac & Fox Tribe of the Mississippi in Iowa.

Additional Requestors and Disposition

Lineal descendants or representatives of any Indian tribe or Native Hawaiian organization not identified in this notice that wish to claim these cultural items should submit a written request with information in support of the claim to Ryan Prehn, Illinois Historic Preservation Agency, 313 South Sixth Street, Springfield, IL 62701, telephone (217) 558-8950, email Ryan.Prehn@Illinois.gov, by May 5, 2016. After that date, if no additional claimants have come forward, transfer of control of the object of cultural patrimony to Sac & Fox Tribe of the Mississippi in Iowa may proceed.

The Illinois Historic Preservation Agency is responsible for notifying the Sac & Fox Tribe of the Mississippi in Iowa that this notice has been published.

Dated: March 11, 2016.
Melanie O'Brien,
Manager, National NAGPRA Program.

[FR Doc. 2016-07773 Filed 4-4-16; 8:45 am]

BILLING CODE 4312-50-P